SECURITIES AND EXCHANGE COMMISSION

Sunshine Act Meeting

Federal Register: Citation of Previous Announcement:

[69 FR 45856, July 30, 2004].

Status: Closed M eeting.

Place: 450 Fifth Street, NW., Washington, DC.

Announcement of Additional Meeting: Additional meeting.

A Closed Meeting will be held on Monday, August 2, 2004 at 2 p.m.

Commissioners, Counsel to the Commissioners, the Secretary to the Commission, and recording secretaries will attend the Closed Meeting. Certain staff members who have an interest in the matter may also be present.

The General Counsel of the Commission, or his designee, has certified that, in his opinion, one or more of the exemptions set forth in 5 U.S.C. 552b(c)(5), (7), (9) and (10) and 17 CFR 200.402(a)(5), (7), 9(ii) and (10) permit consideration of the scheduled matter at the Closed Meeting.

Commissioner Goldschmid, as duty officer, voted to consider the item listed for the closed meeting in a closed session, determined that Commission business required the above change and that no earlier notice thereof was possible.

The subject matter of the Closed Meeting scheduled for Monday, August 2, 2004 will be:

Institution and settlement of an administrative proceeding of an enforcement nature; and

Settlement of an injunctive action;

At times, changes in Commission priorities require alterations in the scheduling of meeting items. For further information and to ascertain what, if any, matters have been added, deleted or postponed, please contact the Office of the Secretary at (202) 942-7070.

Dated: July 30, 2004.
J. Lynn Taylor,
Assistant Secretary.

[FR Doc. 04-17844 Filed 7-30-04; 4:06 pm]

BILLING CODE 8010-01-P